DEPARTMENT OF THE TREASURY

Bureau of Alcohol, Tobacco, and Firearms

Delegation Order—Delegation of the Director's Authorities in 27 CFR Parts 4, 5, and 7, Labeling and Advertising of Wine, Distilled Spirits and Malt Beverages

1. Purpose. This order delegates certain authorities of the Director to subordinate ATF officers and prescribes the subordinate ATF officers with whom persons file documents which are not ATF forms.

2. Cancellation. ATF O 1130.2, Delegation Order—Delegation to Bureau Headquarters Personnel of Authorities of the Director in 27 CFR Parts 4, 5, and 7, Federal Alcohol Administration Act, dated 5/29/96, is canceled.

3. Background. Under current regulations, the Director has authority to take final action on matters relating to labeling and advertising of wine, distilled spirits and malt beverages. We have determined that certain of these authorities should, in the interest of efficiency, be delegated to a lower organizational level.

4. Delegations. Under the authority vested in the Director, Bureau of Alcohol, Tobacco and Firearms, by Treasury Department Order No. 120-1 (formerly 221), dated June 6, 1972, and by 26 CFR 301.7701-9, this ATF order delegates certain authorities to take final action prescribed in 27 CFR Parts 4, 5, and 7 to subordinate officers. Also, this ATF order prescribes the subordinate officers with whom applications, notices, and reports required by 27 CFR Part 4, 5, and 7, which are not ATF forms, are filed. The attached table identifies the regulatory sections, documents and authorized ATF officers. The authorities in the table may not be redelegated. An ATF organization chart showing the directorates involved in this delegation order has been attached.

Bradley A. Buckles,
Director.

Table of Authorities, Documents To Be Filed, and Authorized ATF Officials
Regulatory section | Officer(s) authorized to act or receive document
§ 4.3(a) | Chief, Product Compliance Branch.
§ 4.21(b)(3)(iii) | Chief, Product Compliance Branch.
§ 4.23(c)(2) | Chief, Product Compliance Branch.
§ 4.24(a)(1), (b)(1) and (c)(1) | Chief, Product Compliance Branch.
§ 4.30(b)(1) | Area Supervisor or Chief, Puerto Rico Operations.
§ 4.33(b) | Specialist, Product Compliance Branch.
§ 4.37(c) | Specialist, Product Compliance Branch.
§ 4.38(h) | Area Supervisor, Chief, Puerto Rico Operations, Specialist, Product Compliance Branch, or Chief, Alcohol Import/Export Branch.
§ 4.39(a) (4) and (5) | Specialist, Product Compliance Branch.
§ 4.39(d) | Specialist, Product Compliance Branch.
§ 4.39(g) | Specialist, Product Compliance Branch.
§ 4.39(i)(2)(iii) | Specialist, Product Compliance Branch.
§ 4.39(i)(3) | Specialist, Product Compliance Branch.
§ 4.39(j) | Specialist, Product Compliance Branch.
§ 4.40(c) | Specialist, Product Compliance Branch.
§ 4.50 (a) and (b) | Specialist, Product Compliance Branch.
§ 4.52 | Specialist or Clerk, Product Compliance Branch.
§ 4.64(a) (4) and (5) | Specialist, Market Compliance Branch.
§ 5.3(a) | Chief, Product Compliance Branch.
§ 5.22(k) (1) and (2), and (1)(2) | Chief, Product Compliance Branch.
§ 5.26(b) | Specialist, Product Compliance Branch.
§ 5.28 | Specialist, Product Compliance Branch.
§ 5.33(g) | Area Supervisor, Chief, Puerto Rico Operations, Specialist, Product Compliance Branch, or Chief, Alcohol Import/Export Branch.
§ 5.34(a) | Specialist, Product Compliance Branch.
§ 5.35(a) | Specialist, Product Compliance Branch.
§ 5.36(d) | Specialist, Product Compliance Branch.
§ 5.38(c) | Specialist, Product Compliance Branch.
§ 5.42(a) (4) and (5) and (b)(7) | Specialist, Product Compliance Branch.
§ 5.46(d) | Specialist, Product Compliance Branch.
§ 5.51(c) | Specialist, Product Compliance Branch.
§ 5.55 (a) and (b) | Specialist, Product Compliance Branch.
§ 5.55(c) | Specialist or Clerk, Product Compliance Branch.
§ 5.65(a) (4) and (5) and (g) | Specialist, Market Compliance Branch.
§ 7.3(a) | Chief, Product Compliance Branch.
§ 7.20(c)(1) | Area Supervisor or Chief, Puerto Rico Operations.
§ 7.23(b) | Specialist, Product Compliance Branch.
§ 7.24(g) | Specialist, Product Compliance Branch.
§ 7.25(a) | Specialist, Product Compliance Branch.
§ 7.29(a)(4) and (a)(5) and (d) | Specialist, Product Compliance Branch.
§ 7.31(c) | Specialist, Product Compliance Branch.
§ 7.41 | Specialist, Product Compliance Branch.
§ 7.54(a) (4) and (5) | Chief, Market Compliance Branch.

ATF Organization (Not a complete organizational chart.)

[FR Doc. 00-5359 Filed 3-6-00; 8:45 am]

BILLING CODE 4810-31-P